DEPARTMENT OF ENERGY

Federal Energy Regulatory Commission

[Docket No. EC01-44-000]

The New Power Company; Notice of Filing

December 18, 2000.

Take notice that on December 12, 2000, The New Power Company (New Power), on behalf of itself and its parent companies, TNPC Holdings, Inc. (TNPC Holdings) and TNPC, Inc. (TNPC), filed an application pursuant to Section 203 of the Federal Power Act requesting all necessary authorizations for a name change of its parent TNPC, which name change will be accomplished by means of a short-form merger of TNPC with a newly-created wholly-owned subsidiary, New Power Holdings, Inc.

Any person desiring to be heard or to protest such filing should file a motion to intervene or protest with the Federal Energy Regulatory Commission, 888 First Street, NE., Washington, DC 20426, in accordance with rules 211 and 214 of the Commission's Rules of Practice and Procedure (18 CFR 385.211 and 385.214). All such motions and protests should be filed on or before January 2, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-32701 Filed 12-21-00; 8:45 am]

BILLING CODE 6717-01-M